DEPARTMENT OF JUSTICE

Notice of Lodging of Consent Decree Pursuant to the Clean Water Act, 33 U.S.C. 1251 Act, et seq.

In accordance with Department policy, 28 CFR 50.7, notice is hereby given that a proposed Consent Decree in United States and the State of Ohio v. City of Clyde, Ohio., Civil Action No. 3:04CV7587, was lodged on September 29, 2004, with the United States District Court for the Northern District of Ohio.

The proposed Consent Decree concerns injunctive relief and civil penalties against the City of Clyde, Ohio (“Clyde”), for alleged violations of the Clean Water Act (“the Act”), 33 U.S.C. 1251 et seq. Clyde owns and operates a publicly-owned wastewater treatment works (“POTW”), and the proposed Consent Decree addresses discharges of effluent from the POTW through an outfall into Raccoon Creek, a navigable water of the United States. It also resolves allegations that Clyde violated its 1994, 1997 and 2002 National Pollutant Discharge and Elimination System (“NPDES”) permits and Section 301 of the Act, 33 U.S.C. 1311, by: (1) Exceeding the effluent limitations contained in the three NPDES permits (or “the three permits”), (2) failing to comply with the monitoring requirements contained in the three NPDES permits, (3) failing to meet the compliance schedules contained in the NPDES permits, and (4) failing to comply with an EPA issued Administrative Order (“AO”).

In addition to resolving the allegations in the federal and state Complaints, the proposed Consent Decree provides for injunctive relief which includes Clyde coming into compliance with the current NPDES Permit and preparing a long term control plan for the regulating agencies. Installation of a compliance control screen, monitoring of Clyde's outfall, and reporting requirements are also included. Clyde will also pay a $35,000 penalty.

The Department of Justice will receive comments relating to the proposed Consent Decree for a period of thirty (30) days from the date of this publication. Comments should be addressed to the Assistant Attorney General, Environment and Natural Resources Division, United States Department of Justice, P.O. Box 7611, Washington, DC 20044-7611; and reference United States and the State of Ohio v. City of Clyde, Ohio, DJ #90-5-1-1-06524.

The proposed Consent Decree may be examined at the office of the United States Attorney for the Northern District of Ohio, Four Seagate, Suite 308, Toledo, OH 43604, and at the Region 5 office of the Environmental Protection Agency, 77 West Jackson Boulevard, 7th Floor, Chicago, IL 60604. During the public comment period, the proposed Consent Decree may also be examined on the following Department of Justice Web site, http://www.usdoj.gov/enrd/open.html. A copy of the proposed Consent Decree may also be obtained by mail from the Consent Decree Library, U.S. Department of Justice, P.O. Box 7611, Washington, DC 20044-7611 or by faxing or e-mailing a request to Tonia Fleetwood, (tonia.fleetwood@usdoj.gov), fax no. (202) 514-0097; phone confirmation no. (202) 514-1547. In requesting a copy from the Consent Decree Library, please enclose a check in the amount of $28.00 (25 cents per page reproduction cost), payable to the U.S. Treasury, for the proposed Consent Decree with all attachments, or for $7.75 for the proposed Consent Decree only, to: Consent Decree Library, U.S. Department of Justice, P.O. Box 7611, Washington, DC 20044-7611. The check should refer the Unite States and the State of Ohio v. City of Clyde, Ohio, DJ #90-5-1-1-06524.

William Brighton,
Assistant Section Chief, Environmental Enforcement Section.

[FR Doc. 04-23099 Filed 10-13-04; 8:45 am]

BILLING CODE 4410-15-M